DEPARTMENT OF COMMERCE

National Oceanic and Atmospheric Administration

50 CFR Part 224

[I.D. 021607C]

Endangered and Threatened Species; Proposed Endangered Status for the Cook Inlet Beluga Whale; Public Hearing

AGENCY: National Marine Fisheries Service (NMFS), National Oceanic and Atmospheric Administration (NOAA), Commerce.

ACTION: Notice of public hearing.

SUMMARY: On April 20, 2007, NMFS proposed the listing of the Cook Inlet beluga whale as an endangered species under the Endangered Species Act of 1973 (ESA). As part of that proposal, NMFS announced a public comment period to end on June 19, 2007, and then extended the comment period to August 3, 2007. NMFS has received requests for public hearings on this issue. In response, NMFS announced two public hearings to be held in Alaska in a previous Federal Register notice. In addition, NMFS is announcing a separate hearing in this notice that will be held in Silver Spring, Maryland, in order to provide greater opportunity for public comment.

DATES: The hearing will be held on July 31, 2007, from 3:30 to 6:30 p.m. in Silver Spring, MD. Written comments must be received by August 3, 2007.

ADDRESSES: The July 31, 2007, hearing will be held at NOAA Headquarters, Building 2, Conference Room 2358, 1325 East-West Highway, Silver Spring, MD.

Written comments can be sent to Kaja Brix, Assistant Regional Administrator, Protected Resources Division, Alaska Region, NMFS, Attn: Ellen Sebastian. Comments may be submitted by:

• E-mail: CIB-ESA-Endangered@noaa.gov. Include in the subject line the following document identifier: Cook Inlet Beluga Whale PR. E-mail comments, with or without attachments, are limited to 5 megabytes.

• Webform at the Federal eRulemaking Portal: www.regulations.gov. Follow the instructions at that site for submitting comments.

• Mail: P. O Box 21668, Juneau, AK 99802.

• Hand delivery to the Federal Building : 709 W. 9th Street, Juneau, AK.

• Fax: (907) 586-7557.

FOR FURTHER INFORMATION CONTACT: For specific information regarding the July 31, 2007, hearing in Silver Spring, MD, contact Chris Uyeda, NMFS, 1315 East-West Highway, Silver Spring, MD 20910-3226, telephone (301) 713-1401 . For all other information regarding the proposed listing of the Cook Inlet beluga whale contact Brad Smith, NMFS, 222 West 7th Avenue, Anchorage, AK 99517, telephone (907) 271-5006; Kaja Brix, NMFS, (907) 586-7235; or Marta Nammack, (301) 713-1401.

SUPPLEMENTARY INFORMATION:

Background

On April 20, 2007, NMFS published a proposed rule (72 FR 19854) to list the Cook Inlet beluga whale as an endangered species under the Endangered Species Act of 1973 (ESA), as amended. This action followed completion of the Cook Inlet beluga whale status review, which found this population to be at risk of extinction within the next 100 years and described NMFS' determination that this population constitutes a “species”, or distinct population segment under the ESA.

On June 13, 2007, in response to requests, NMFS announced that two public hearings would be held in Alaska regarding the proposed listing of the Cook Inlet beluga whale (72 FR 32605). Following this announcement, NMFS received an additional request for a public hearing to be held in Silver Spring. This request was submitted beyond the 45-day statutory deadline for public hearing requests (16 U.S.C. 1533(b)(5)(E)). However, NMFS has decided to voluntarily honor the request in order to provide additional opportunities for public comment.

Public Hearings

Joint Commerce-Interior ESA implementing regulations state that the Secretary shall promptly hold at least one public hearing if any person requests one within 45 days of publication of a proposed regulation to list a species or to designate critical habitat (see 50 CFR 424.16(c)(3)). In past ESA rule-makings NMFS has conducted traditional public hearings, consisting of recorded oral testimony from interested individuals. This format, although providing a means for public input, does not provide opportunities for dialogue and information exchange. NMFS believes that the traditional public hearing format can be improved upon by also including a brief presentation on the results of the Cook Inlet beluga Status Review and other topics of interest.

The preferred means for providing public comment to the official record is via written testimony prepared in advance of the meeting which may also be presented orally. Blank “comment sheets” will be provided at the meetings for those without prepared written comments, and opportunity will also be provided for additional oral testimony. There is no need to register for these hearings.

In scheduling these public hearings, NMFS has anticipated that many affected stakeholders and members of the public may prefer to discuss the proposed listing directly with staff during the public comment period. However, these public meetings are not the only opportunity for the public to provide input on this proposal. The public and stakeholders are encouraged to continue to comment and provide input to NMFS on the proposal (via correspondence, e-mail, and the Internet; see ADDRESSES) up until the scheduled close of the comment period on August 3, 2007.

References

The proposed rule, status review, maps, a list of the references cited in this document, and other materials relating to the proposed listing can be found on the NMFS Alaska Region website http://www.fakr.noaa.gov/.

Authority: 16 U.S.C. 1531 et seq.

Dated: June 19, 2007.
James H. Lecky,
Director, Office of Protected Resources, National Marine Fisheries Service.

[FR Doc. E7-12262 Filed 6-22-07; 8:45 am]

BILLING CODE 3510-22-S